Proclamation 10226 of June 1, 2021

National Ocean Month, 2021

By the President of the United States of America

A Proclamation

The world's ocean basins are critical to the success of our Nation and, indeed, to life on Earth. The ocean powers our economy, provides food for billions of people, supplies 50 percent of the world's oxygen, offers recreational opportunities for us to enjoy, and regulates weather patterns and our global climate system. During National Ocean Month, we celebrate our stewardship of the ocean and coasts, and reaffirm our commitment to protecting and sustaining them for current and future generations.

My Administration is dedicated to improving our Nation's public health by supporting resilient ocean habitats, wildlife, and resources in which all Americans rely on. Through our “America the Beautiful” initiative, we are working with State, Tribal, and local partners to conserve at least 30 percent of United States lands and waters by 2030—so that our natural world can continue to supply the food, clean air, and clean water that every one of us depends on to survive. We are also committed to supporting safe, plentiful, and sustainable seafood harvesting for domestic consumption and export, and reducing public health risks such as harmful algal blooms that have proliferated as a result of climate change and the acidification of our waters.

The ocean has always been essential to our economy, and that will remain true as we build back better and develop the clean industries and good jobs of the future. My plan to dramatically expand offshore wind energy over the next 10 years will provide good-paying union jobs and a sustainable source of clean energy. Investing in resilient, reliable coastal infrastructure—including modern ports and waterways—that can withstand the impacts of rising seas and powerful storms will keep our economy competitive in the global marketplace while making our families safer. Conserving and restoring coastal wetlands and habitats will also strengthen our efforts to tackle climate change, improve the resilience of coastal communities, and help restore nursery areas that are important to our fisheries. Investing in our fishing communities and supporting local seafood supply options will also be critical to helping us build a climate-resilient, sustainable ocean economy.

Climate change is a global challenge that is integrally linked to the ocean. By protecting our ocean and coastal ecosystems and resources, we are also protecting the worldwide economies and people that depend on them. To address these challenges, we are building on our Nation's long legacy of ocean exploration and research to gain new insights into ocean ecosystems and biodiversity and ways the ocean can sequester and store carbon. Marine life, changing ocean conditions, and plastic and other pollution pay no attention to national boundaries. That is why we must focus on a worldwide approach to conservation and sustainability. In collaboration with our international partners, my Administration will continue America's global leadership in ocean science, stewardship, and conservation. Our engagement in international efforts, such as the United Nations Decade of Ocean Science for Sustainable Development, reflects the priorities and values of my Administration to ensure that ocean science delivers greater benefits for the American people, the people of the world, and international ocean ecosystems.

My Administration is also committed to delivering climate justice, including ensuring equitable access to our ocean and coasts for all Americans—and working to ensure that Indigenous Americans, Black Americans, and other people of color are no longer forced to shoulder disproportionate climate and environmental burdens, as they historically have. My Administration will work hard to further break down the barriers many communities of color face by creating new opportunities to diversify ocean-related access and workforces. We will also equip educators with tools to teach our Nation's youth how to become a powerful generation of ocean stewards.

It is imperative that we take proper action now to ensure that the ocean continues to thrive. During National Ocean Month, we recognize the central role of a healthy ocean in sustaining all of our lives, and pledge to find innovative ways to conserve, protect, and restore our ocean.

NOW, THEREFORE, I, JOSEPH R. BIDEN JR., President of the United States of America, by virtue of the authority vested in me by the Constitution and the laws of the United States, do hereby proclaim June 2021 as National Ocean Month. I call upon Americans to take action to protect, conserve, and restore our ocean and coasts.

IN WITNESS WHEREOF, I have hereunto set my hand this first day of June, in the year of our Lord two thousand twenty-one, and of the Independence of the United States of America the two hundred and forty-fifth.

[FR Doc. 2021-11979

Filed 6-4-21; 8:45 am]

Billing code 3295-F1-P